NATIONAL SCIENCE FOUNDATION

The Federal Demonstration Partnership; Phase IV Notice

AGENCY: National Science Foundation, National Institutes of Health, Office of Naval Research, Department of Energy, Department of Agriculture, Air Force Office of Scientific Research, Army Research Office, Army Medical Research & Materiel Command, National Aeronautics & Space Administration, Environmental Protection Agency.

ACTION: Notice.

SUMMARY: This Notice announces a solicitation for large and small public and private colleges and universities (including predominantly undergraduate institutions and minority serving institutions), non-profit research and education organizations (e.g., science museums and research institutes), and hospitals to participate in Phase IV of the Federal Demonstration Partnership (FDP). FDP is a unique forum of federal agencies and recipients committed to testing innovative approaches and streamlining processes and systems for federally supported research and education. It is anticipated that the Government University Industry Research Roundtable of the National Academy of Sciences will continue to function as a neutral covener for the FDP. The full solicitation is found at the Federal Demonstration Partnership Web site www.fdp3.org.

DATES: Proposals must be received by C.O.B. on April 9, 2002. Evaluation and selection of organizations will be completed on or about May 15, 2002. Phase IV organization and execution of agreements will be completed on or about June 30, 2002. The Phase IV organizational meeting will take place September 12 and 13, 2002 at the National Academy of Science, Washington, D.C. Phase IV concludes September 30, 2008.

FOR FURTHER INFORMATION CONTACT: Visit the FDP Web site www.fdp3.org or contact: Constance Atwell, atwellc@ninds.nih.gov. NIH (FDP Executive Committee Program Representative); Charles Paoletti, ONR (FDP Executive Committee Administrative Representative) paletc@onr.navy.mil; Barbara Siegel, Northwestern University (FDP Executive Committee Chair) bsiegel@northwestern.edu; William Olbricht, Cornell University (FDP Executive Committee Faculty Representative) Wlo@cheme.cornell.edu.

Suzanne H. Plimpton,
Reports Clearance Officer, National Science Foundation.

[FR Doc. 02-3033 Filed 2-7-02; 8:45 am]

BILLING CODE 7555-01-M